INTERNATIONAL TRADE COMMISSION

[Investigation No. 332-518]

China's Agricultural Trade: Competitive Conditions and Effects on U.S. Exports

AGENCY: United States International Trade Commission.

ACTION: Institution of investigation and scheduling of hearing.

SUMMARY: Following receipt on April 1, 2010, of a request from the United States Senate Committee on Finance (Committee) under section 332(g) of the Tariff Act of 1930 (19 U.S.C. 1332(g)), the U.S. International Trade Commission (Commission) instituted investigation No. 332-518, China's Agricultural Trade: Competitive Conditions and Effects on U.S. Exports.

DATES: May 25, 2010: Deadline for filing requests to appear at the public hearing.

June 3, 2010: Deadline for filing prehearing briefs and statements.

June 22, 2010: Public hearing.

June 29, 2010: Deadline for filing posthearing briefs and statements.

September 15, 2010: Deadline for filing all other written submissions.

March 1, 2011: Transmittal of Commission report to the Committee.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project leader Joanna Bonarriva (202-205-3312 or joanna.bonarriva@usitc.gov) or deputy project leader Marin Weaver (202-205-3461 or marin.weaver@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the Committee, the Commission will conduct an investigation and prepare a report on the conditions of competition in China's agricultural market and trade and their effect on U.S. agricultural exports. As requested, to the extent possible, the report will include—

(1) An overview of China's agricultural market, including recent trends in production, consumption, and trade;

(2) A description of the competitive factors affecting the agricultural sector in China, in such areas as costs of production, technology, domestic support and government programs related to agricultural markets, foreign direct investment policies, and pricing and marketing regimes;

(3) An overview of China's participation in global agricultural export markets, particularly in the Asia-Pacific region and in those markets with which China has negotiated trade agreements;

(4) A description of the principal measures affecting China's agricultural imports, including tariffs and non-tariff measures such as sanitary and phytosanitary measures and technical barriers to trade, and;

(5) A quantitative analysis of the economic effects of China's MFN tariffs, preferential tariffs negotiated under China's free trade agreements, and China's non-tariff measures on U.S. agricultural exports to China and on imports from the rest of the world.

The Committee asked that the Commission's report cover the period 2005-2009, or the period 2005 to the latest year for which data are available. The Committee requested that the Commission deliver its report by March 1, 2011.

Public Hearing: The Commission will hold a public hearing in connection with this investigation at the U.S. International Trade Commission Building, 500 E Street, SW., Washington, DC, beginning at 9:30 a.m. on Tuesday, June 22, 2010. Requests to appear at the public hearing should be filed with the Secretary no later than 5:15 p.m., May 25, 2010, in accordance with the requirements in the “Submissions” section below. All prehearing briefs and statements should be filed with the Secretary not later than 5:15 p.m., June 3, 2010; and all posthearing briefs and statements responding to matters raised at the hearing should be filed with the Secretary not later than 5:15 p.m., June 29, 2010. All hearing-related briefs and statements should be filed in accordance with the requirements for filing written submissions set out below. In the event that, as of the close of business on May 25, 2010, no witnesses are scheduled to appear at the hearing, the hearing will be canceled. Any person interested in attending the hearing as an observer or nonparticipant may call the Office of the Secretary (202-205-2000) after May 25, 2010, for information concerning whether the hearing will be held.

Written Submissions: In lieu of or in addition to participating in the hearing, interested parties are invited to file written submissions concerning this investigation. All written submissions should be addressed to the Secretary, and all such submissions (other than pre- and post-hearing briefs and statements) should be received not later than 5:15 p.m., September 15, 2010. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Office of the Secretary (202-205-2000).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available for inspection by interested parties.

In its request letter, the Committee stated that it intends to make the Commission's report available to the public in its entirety, and asked that the Commission not include any confidential business information in the report it sends to the Committee. Any confidential business information received by the Commission in this investigation and used in preparing this report will not be published in a manner that would reveal the operations of the firm supplying the information.

By order of the Commission.
Issued: April 30, 2010.
Marilyn R. Abbott,
Secretary to the Commission.

[FR Doc. 2010-10650 Filed 5-5-10; 8:45 am]

BILLING CODE 7020-02-P